DEPARTMENT OF COMMERCE

National Oceanic and Atmospheric Administration

[I.D. 022505D]

Endangered Species; File No. 1509

AGENCY: National Marine Fisheries Service (NMFS), National Oceanic and Atmospheric Administration (NOAA), Commerce.

ACTION: Receipt of application.

SUMMARY: Notice is hereby given that Jeanette Wyneken, Florida Atlantic University, Department of Biological Sciences, 777 Glades Rd., Boca Raton, FL 33431, has applied in due form for a permit to take loggerhead (Caretta caretta) sea turtles for purposes of scientific research.

DATES: Written, telefaxed, or e-mail comments must be received on or before April 8, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1509.

FOR FURTHER INFORMATION CONTACT: Patrick Opay or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to study whether mis-oriented turtles are able to crawl towards the ocean and swim offshore. The results of the study would help determine if these turtles remain behaviorally competent when released at beach sites and are likely to complete their offshore migration, and whether they are likely to survive and contribute to population recovery. The applicant would conduct the research on 80 loggerhead hatchlings. The sea turtle hatchlings would have a lightweight float attached to them and they would be tracked by boat or kayak as they migrate offshore. At the conclusion of its swimming trial, each hatchling would be captured to remove the float gear. If the turtle was heading properly offshore, it would be released to continue its journey. If the turtle was heading in the incorrect direction, it would be released the next afternoon in the Gulf Stream. The applicant is requesting authorization from NMFS to conduct the in-water activities relating to the research. The research activities would occur in the waters of Florida and the applicant requests a 2-year permit.

Dated: March 4, 2005.
Stephen L. Leathery,
Chief, Permits, Conservation and Education Division, Office of Protected Resources, National Marine Fisheries Service.

[FR Doc. 05-4621 Filed 3-8-05; 8:45 am]

BILLING CODE 3510-22-S